FEDERAL COMMUNICATIONS COMMISSION

47 CFR Part 64

[CG Docket Nos. 03-123, 10-51; DA 20-219; FRS 32654]

Structure and Practices of the Video Relay Services Program

AGENCY: Federal Communications Commission.

ACTION: Final rule.

SUMMARY: In this document, the Federal Communications Commission's (Commission's) Consumer and Governmental Affairs Bureau (Bureau), pursuant to delegated authority, amends the Commission's interoperability requirements for video relay service (VRS) to remove reference to the Interoperability Profile for Relay User Equipment (RUE Profile).

DATES: These rules are effective August 6, 2021.

FOR FURTHER INFORMATION CONTACT: Michael Scott, Consumer and Governmental Affairs Bureau, at (202) 418-1264, or email Michael.Scott@fcc.gov.

SUPPLEMENTARY INFORMATION: This is a summary of the Bureau's Order on Reconsideration, document DA 20-219, adopted on March 3, 2020, released on March 3, 2020, in CG Docket Nos. 10-51 and 03-123. The Bureau previous sought comment on a petition for reconsideration, published at 82 FR 33856, July 21, 2017, with a correction published at 82 FR 34471, July 25, 2017. The full text of document DA 20-219 is available for public inspection via the Commission's Electronic Comment Filing System (ECFS). To request materials in accessible formats for people with disabilities (Braille, large print, electronic files, audio format), send an email to fcc504@fcc.gov, or call the Consumer and Governmental Affairs Bureau at (202) 418-0530 (voice) or (202) 418-0432 (TTY).

Incorporation by Reference: The Commission notified the Director of the Federal Register of the removal of the incorporation by reference to the RUE Profile from § 64.621(c) on May 5, 2020.

Congressional Review Act

The Commission sent a copy of document DA 20-219 to Congress and the Government Accountability Office pursuant to the Congressional Review Act, 5 U.S.C. 801(a)(1)(A).

Final Paperwork Reduction Act of 1995 Analysis

Document DA 20-219 does not contain new or modified or proposed information collections subject to the Paperwork Reduction Act of 1995 (PRA), Public Law 104-13. Therefore, it does not contain any new or modified information collection burden for small business concerns with fewer than 25 employees, pursuant to the Small Business Paperwork Relief Act of 2002, Public Law 107-198, 44 U.S.C. 3506(c)(4).

Regulatory Flexibility Act Analysis

Document DA 20-219 does not require a Final Regulatory Flexibility Analysis, pursuant to the Regulatory Flexibility Act of 1980 as amended (RFA), 5 U.S.C. 601-612, as amended by Public Law 104-121. Document DA 20-219 will be sent to the Chief Counsel for Advocacy of the Small Business Administration.

Incorporation by Reference Summary

Document DA 20-219 removes from the Commission's rules the Interoperability Profile for Relay User Equipment, draft-vrs-rue-dispatch-00 (2016) (RUE Profile). The RUE Profile provides technical specifications that define a standard interface between a relay user's equipment and the services offered by relay service providers. The document is available from IETF Secretariat, 5177 Brandin Court, Fremont, CA 94538, 510-492-4080, https://datatracker.ietf.org/doc/draft-vrs-rue-dispatch.

Synopsis

1. VRS, a form of telecommunications relay service (TRS), enables people with hearing or speech disabilities who use American Sign Language (ASL) to employ video equipment to communicate with voice telephone users. To ensure that consumers can communicate and port their service between VRS providers, the Commission requires VRS providers to ensure their services are interoperable and portable and has delegated rulemaking authority to the Bureau to adopt technical standards.

2. In response to a petition, the Bureau reconsiders its 2017 decision incorporating the RUE Profile and deletes the interoperability rule's reference to that standard. There are limited benefits to be gained from implementing the current version of the RUE Profile, which is undergoing review by a standards development organization, and at this time such limited benefits do not outweigh the costs of implementation.

3. Benefits. The need for a mandatory provider-to-device technical standard to ensure objective interoperability testing is not as critical as appeared to be the case when this proceeding began. In 2013, when the Commission delegated authority to the Bureau to adopt VRS technical standards, interoperability could not be assured due to the absence of any applicable standards, and there were disputes among providers over who was responsible for alleged failures of interoperability. More recently, however, the other technical standards adopted in 2017—the Provider Interoperability Profile and the xCard standard for porting consumer contact lists—appear to have been implemented successfully. Further, VRS providers now work together to ensure interoperability through an informal process in which engineers from each company collaborate on interoperability testing and information exchange. In addition, the MITRE Corporation has established a testing laboratory environment that enables effective testing of interoperability using provider-supplied user devices and software. In short, even though compliance with the RUE Profile has not been required to date, processes to implement the substance of the Commission's current interoperability and portability rules are in place and have produced positive results.

4. More fundamentally, the RUE Profile remains a work in progress, currently under consideration by a working group of the internet Engineering Task Force. No benefit can be gained by enforcing compliance with a technical standard that is not ready to be implemented.

5. Costs. Implementation of the RUE Profile at this time would require VRS providers to incur substantial costs. In addition, RUE Profile compliance may impose additional indirect costs that are difficult to quantify, including, e.g., costs caused by unforeseen technical problems and security issues arising out of consumer use of the VATRP, as well as potential opportunity costs due to the diversion of engineering and research resources from technical improvements that may offer greater benefit to consumers.

6. The Bureau will maintain this docket as an open proceeding, to allow for consideration of new or updated technical standards, including further consideration of provider-to-device standards, should they be submitted for consideration.

Ordering Clauses

7. Pursuant to the authority contained in sections 4(i), 4(j), and 225 of the Communications Act of 1934, as amended, 47 U.S.C. 154(i), (j), 225, and §§ 0.141, 0.361, and 1.3 of the Commission's rules, 47 CFR 0.141, 0.361, 1.3, the petition for reconsideration filed by Sorenson Communications, LLC, is granted in part and dismissed in part.

List of Subjects in 47 CFR Part 64

Incorporation by reference, Individuals with disabilities, Telecommunications, Telecommunications relay services.

Federal Communications Commission.
Gregory Haledjian,
Legal Advisor, Consumer and Governmental Affairs Bureau.

Final Rules

For the reasons discussed in the preamble, the Federal Communications Commission amends 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 262, 276, 403(b)(2)(B), (c), 616, 620, 1401-1473, unless otherwise noted; Pub. L. 115-141, Div. P, sec. 503, 132 Stat. 348, 1091.

2. Amend § 64.621 by

a. Revising paragraph (a)(3); and

b. Removing and reserving (c)(2)(ii).

The revision reads as follows:

§ 64.621 Interoperability and portability.

(a) * * *

(3) All VRS providers must ensure that their VRS access technologies and their video communication service platforms are interoperable with the VRS Access Technology Reference Platform, including for point-to-point calls. No VRS provider shall be compensated for minutes of use involving their VRS access technologies or video communication service platforms that are not interoperable with the VRS Access Technology Reference Platform.

* * * * *

[FR Doc. 2021-13486 Filed 7-6-21; 8:45 am]

BILLING CODE 6712-01-P